DEPARTMENT OF HEALTH AND HUMAN SERVICES

Administration for Children and Families

Proposed Information Collection Activity; Survey of Head Start Grantees on Training and Technical Assistance (New Collection)

AGENCY: Office of Planning, Research, and Evaluation; Administration for Children and Families; HHS.

ACTION: Request for public comment.

SUMMARY: The Administration for Children and Families (ACF) at the U.S. Department of Health and Human Services (HHS) seeks approval to conduct a statistically representative survey of directors and managers/coordinators from Head Start grantee organizations regarding their access to and use of training and technical assistance (T/TA) from multiple sources, including ACF's Early Childhood Training and Technical Assistance system. The purpose of the data collection is to inform ACF on three aspects of grantee directors and managers/coordinators T/TA experience: (1) Search and selection of T/TA; (2) receipt of T/TA; (3) and potential relationships between T/TA received and perceived change in practice.

DATES: Comments due within 60 days of publication. In compliance with the requirements of Section 3506(c)(2)(A) of the Paperwork Reduction Act of 1995, the Administration for Children and Families is soliciting public comment on the specific aspects of the information collection described above.

ADDRESSES: Copies of the proposed collection of information can be obtained and comments may be forwarded by writing to the Administration for Children and Families, Office of Planning, Research, and Evaluation, 330 C Street SW, Washington, DC 20201, Attn: OPRE Reports Clearance Officer. Email address: OPREinfocollection@acf.hhs.gov. All requests should be identified by the title of the information collection.

SUPPLEMENTARY INFORMATION:

Description: The Head Start Directors Wave 1 survey addresses the grantee's organizational characteristics, how the organization defines and diffuses T/TA, T/TA received and requested in the prior program year, and overall organizational goals and reflections on T/TA efforts for the current year. The Head Start Managers/Coordinators Wave 2 survey addresses four distinct domains of Head Start activity: (1) Program management and fiscal operations; (2) education; (3) parent and family engagement; and (4) health and wellness. The Wave 2 survey addresses how these activity domains are structured and staffed with the grantee organization, the types of T/TA and resources sought and used to improve practice in each domain, perceptions of usefulness of recent T/TA received, and T/TA priorities for the next program year.

Respondents: Head Start Directors, Head Start Managers/Coordinators.

Annual Burden Estimates
Instrument | Total/annual number of respondents | Number of responses per respondent | Average burden hours per response | Annual burden hours
Wave 1 Head Start Director Survey | 1,200 | 1 | .75 | 900
Wave 2 Head Start Managers/Coordinator Survey | 800 | 1 | .75 | 600

Estimated Total Annual Burden Hours: 1,500.

Comments: The Department specifically requests comments on (a) whether the proposed collection of information is necessary for the proper performance of the functions of the agency, including whether the information shall have practical utility; (b) the accuracy of the agency's estimate of the burden of the proposed collection of information; (c) the quality, utility, and clarity of the information to be collected; and (d) ways to minimize the burden of the collection of information on respondents, including through the use of automated collection techniques or other forms of information technology. Consideration will be given to comments and suggestions submitted within 60 days of this publication.

Authority: The Statutory Authority for this data collection is: Section 640(a)(2)(D) and section 649 of the Improving Head Start for School Readiness Act of 2007.

Mary B. Jones,
ACF/OPRE Certifying Officer.

[FR Doc. 2019-01428 Filed 2-6-19; 8:45 am]

BILLING CODE 4184-40-P